DEPARTMENT OF COMMERCE

International Trade Administration

North American Free-Trade Agreement (NAFTA), Article 1904 Binational Panel Reviews

AGENCY: NAFTA Secretariat, United States Section, International Trade Administration, Department of Commerce.

ACTION: Notice of Decision of Panel.

SUMMARY: On November 28, 2007 the binational panel issued its decision in the review of the 2nd Administrative Review made by the International Trade Administration, respecting Carbon and Certain Alloy Steel Wire Rod from Canada, Secretariat File No. USA-CDA-2006-1904-04. The binational panel remanded a portion of the decision to the Import Administration with a partial dissenting opinion and a further dissent. Copies of the panel decision are available from the U.S. Section of the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision: The panel remanded the International Trade Administration's final determination respecting Carbon and Certain Alloy Steel Wire Rod from Canada with a partial dissenting opinion and a further dissent. The panel remanded the opinion as follows:

1. On the issue of the permissibility of zeroing, the Panel remands this matter back to Commerce to re-calculate Mittal's dumping margins without zeroing.

2. On the issue of the significance of the actual cost increases, the Panel remands the question of the significance of the cost increase back to Commerce for a reasoned explanation of its decision, based on the record and corrected for any errors in calculation of costs that may have been made in the original decision. At a minimum, the revised determination should include a description of the criteria that Commerce applied and an explanation of how Commerce decided on the significance or lack thereof of the cost increases in this case.

3. On the issue of the consistency of the cost increases between the two cost periods proposed by Mittal, this Panel remands this matter back to Commerce to clarify what is its test for consistent cost increases in this case, to explain why that test is reasonable and to provide a reasoned explanation of whether Mittal's costs met that test in this case.

4. On the issue of the linkage between changes in costs and prices, this Panel also remands this matter back to Commerce to provide a reasoned description and explanation of its linkage test, to apply that test to the costs and prices in this case, and to provide a reasoned explanation of whether Mittal has actually met this linkage test in its proposed cost periods in this case.

Commerce is further directed to issue its Final Re-determination on Remand within forty-five days from the date of this Panel Decision or by January 14, 2008.

Dated: December 3, 2007.
Caratina L. Alston,
U.S. Secretary, NAFTA Secretariat.

[FR Doc. E7-23684 Filed 12-5-07; 8:45 am]

BILLING CODE 3510-GT-P